DEPARTMENT OF HEALTH AND HUMAN SERVICES

Centers for Medicare & Medicaid Services

42 CFR Parts 431

[CMS-1450-CN]

RIN 0938-AR52

Medicare and Medicaid Programs; Home Health Prospective Payment System Rate Update for CY 2014, Home Health Quality Reporting Requirements, and Cost Allocation of Home Health Survey Expenses Correction

AGENCY: Centers for Medicare & Medicaid Services (CMS), HHS.

ACTION: Proposed rule; correction.

SUMMARY: This document corrects technical errors that appeared in the proposed rule with comment period titled “Medicare and Medicaid Programs; Home Health Prospective Payment System Rate Update for CY 2014, Home Health Quality Reporting Requirements, and Cost Allocation of Home Health Survey Expenses” published on July 3, 2013.

FOR FURTHER INFORMATION CONTACT: Elmer Barksdale, (410) 786-1943.

SUPPLEMENTARY INFORMATION:

I. Background

In FR Doc. 2013-15766, published on Wednesday, July 3, 2013 (78 FR 40272), there was an error that is identified and corrected in the Correction of Errors section below.

II. Summary of Errors

In section “VI.G. Accounting Statement and Table” of the Regulatory Impact Analysis section, in the Transfers column of Table 31, under the heading Medicare HH Survey & Certification Costs, we inadvertently made a typographical error when we listed the amount for the Annualized Monetized Transfers. Specifically, we stated that the amount was “−$18.6 Million” instead of “$18.6 Million.”

IV. Correction of Errors

In FR Doc. 2013-15766, published on July 3, 2013, on page 40308, in the Transfers column of Table 31, under the heading Medicare “HH Survey & Certification Costs”, the amount “−$18.6 Million” is corrected to read “$18.6 Million.”

(Catalog of Federal Domestic Assistance Program No. 93.773, Medicare—Hospital Insurance; and Program No. 93.774, Medicare—Supplementary Medical Insurance Program)

Dated: July 2, 2013.
Jennifer M. Cannistra,
Executive Secretary to the Department, Department of Health and Human Services.

[FR Doc. 2013-16392 Filed 7-3-13; 11:15 am]

BILLING CODE 4120-01-P